FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than February 24, 2020.

A. Federal Reserve Bank of Atlanta (Kathryn Haney, Assistant Vice President) 1000 Peachtree Street NE, Atlanta, Georgia 30309. Comments can also be sent electronically to Applications.Comments@atl.frb.org:

1. The William T. Taylor Revocable Trust, Merritt Island, Florida; The Ruby Scott Watson Revocable Trust, Merritt Island, Florida; William T. Taylor, Merritt Island, Florida, individually, and as trustee of William T. Taylor Revocable Trust and The Ruby Scott Watson Revocable Trust; and Erna Taylor, Melbourne, Florida; as members of a group acting in concert to retain voting shares of CBOS Bankshares, Inc., and thereby indirectly retain voting shares of Community Bank of the South, both of Merritt Island, Florida.

B. Federal Reserve Bank of Kansas City (Dennis Denney, Assistant Vice President) 1 Memorial Drive, Kansas City, Missouri 64198-0001:

1. Emily Crouse and Sam Crouse, both of Basin, Wyoming; Ian Crouse and Dylan Crouse, both of Billings, Montana; Jordan Crouse and Stacee Crouse, both of Firestone, Colorado; and Thayer Crouse, Sandy, Utah; as members of the Crouse Family Group acting in concert to retain voting shares of Financial Security Corporation, and indirectly retain shares Security State Bank, both in Basin, Wyoming.

Board of Governors of the Federal Reserve System, February 4, 2020.
Yao-Chin Chao,
Assistant Secretary of the Board.

[FR Doc. 2020-02522 Filed 2-7-20; 8:45 am]

BILLING CODE P